DEPARTMENT OF LABOR

Employment and Training Administration

Investigations Regarding Eligibility To Apply for Worker Adjustment Assistance; Correction

AGENCY: Employment and Training Administration, Labor.

ACTION: Notice; correction.

SUMMARY: The Employment and Training Administration (ETA) published in the Federal Register on Thursday, September 11, 2014, an announcement of investigation regarding eligibility to apply for workers adjustment assistance (Vol. 79, No. 176, page 54291, see http://www.gpo.gov/fdsys/pkg/FR-2014-09-11/pdf/2014-21626.pdf). The announcement included Trade Adjustment Assistance petitions instituted between 8/11/14 and 8/15/14. This notice corrects the subject firm name and date of institution for Pixel Corporation, Woodland Hills, CA (TA-W-83,367) to read Pixel Playground and 04/23/2013.

No other corrections are made, and the remainder of the notice and appendix that published on September 11, 2014, remains the same.

DATES: This Notice is effective on September 11, 2014.

FOR FURTHER INFORMATION CONTACT: Please contact Mike Jaffe, Department of Labor, Employment and Training Administration, Office of Trade Adjustment Assistance, 200 Constitution Avenue NW., Room N-5428, Washington, DC 20210.

Signed at Washington, DC, this 23rd day of September 2014.
Michael W. Jaffe,
Certifying Officer, Office of the Trade Adjustment Assistance.

[FR Doc. 2014-23079 Filed 9-26-14; 8:45 am]

BILLING CODE 4510-FN-P